DEPARTMENT OF THE INTERIOR

Bureau of Safety and Environmental Enforcement

30 CFR Part 250

[Docket ID BSEE-2012-0005; 13XE1700DX EX1SF0000.DAQ000 EEEE500000]

RIN 1014-AA10

Oil and Gas and Sulphur Operations on the Outer Continental Shelf—Oil and Gas Production Safety Systems

AGENCY: Bureau of Safety and Environmental Enforcement (BSEE), Interior.

ACTION: Extension of comment period for a proposed rule.

SUMMARY: The Bureau of Safety and Environmental Enforcement (BSEE) is extending the public comment period on the production safety systems proposed rule, which was published in the Federal Register on August 22, 2013. The original public comment period would end October 21, 2013. However, BSEE has received multiple requests from various industry representatives to extend the comment period. The BSEE has reviewed the extension requests and determined that a 45-day comment period extension is appropriate.

DATES: Written comments must be received by the extended due date of December 5, 2013. The BSEE may not fully consider comments received after this date.

ADDRESSES: You may submit comments on the rulemaking by any of the following methods. Please use the Regulation Identifier Number (RIN) 1014-AA10 as an identifier in your message. See also Public Availability of Comments under Procedural Matters.

• Federal eRulemaking Portal: http://www.regulations.gov. In the entry titled Enter Keyword or ID, enter BSEE-2012-0005 then click search. Follow the instructions to submit public comments and view supporting and related materials available for this rulemaking. The BSEE may post all submitted comments.

• Mail or hand-carry comments to the Department of the Interior (DOI); Bureau of Safety and Environmental Enforcement; Attention: Regulations Development Branch; 381 Elden Street, HE3313; Herndon, Virginia 20170-4817. Please reference “Oil and Gas Production Safety Systems, 1014-AA10” in your comments and include your name and return address.

• Public Availability of Comments—Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Kirk Malstrom, Regulations Development Branch, 703-787-1751, kirk.malstrom@bsee.gov.

SUPPLEMENTARY INFORMATION: The BSEE published a proposed rulemaking on production safety systems on August 22, 2013 (78 FR 52240). The proposed rule would amend and update the regulations regarding oil and natural gas production by addressing issues such as: safety and pollution prevention equipment lifecycle analysis, production safety systems, subsurface safety devices, and safety device testing. The proposed rule would differentiate the requirements for operating dry tree and subsea tree production systems on the Outer Continental Shelf (OCS) and divide the current subpart H into multiple sections to make the regulations easier to read and understand. Upon publication of the proposed rule, BSEE received a number of requests from multiple oil and gas companies and industry groups asking BSEE to extend the comment period on the proposed rule. Accordingly, to provide additional time for review of and comment on the proposed rule, BSEE is extending its original 60-day comment period by an additional 45 days.

Dated: September 19, 2013.
Tommy P. Beaudreau,
Acting Assistant Secretary, Land and Minerals Management.

[FR Doc. 2013-23520 Filed 9-26-13; 8:45 am]

BILLING CODE 4810-VH-P